DEPARTMENT OF COMMERCE

International Trade Administration

[A-552-801]

Certain Frozen Fish Fillets From the Socialist Republic of Vietnam: Notice of Partial Revocation of the Antidumping Duty Order

AGENCY: Enforcement and Compliance, International Trade Administration, Department of Commerce.

SUMMARY: On January 17, 2025, the United States, through the Office of the U.S. Trade Representative (USTR), and the Government of the Socialist Republic of Vietnam (Vietnam) signed an agreement regarding the World Trade Organization (WTO) dispute United States—Anti-Dumping Measures on Fish Fillets from Viet Nam (DS536). In light of this agreement, the U.S. Department of Commerce (Commerce) is issuing this notice of partial revocation of Vinh Hoan Corporation (Vinh Hoan) from the antidumping duty order on certain frozen fish fillets from Vietnam.

DATES: Applicable August 1, 2021.

FOR FURTHER INFORMATION CONTACT: Javier Barrientos, AD/CVD Operations, Office V, Enforcement and Compliance, International Trade Administration, U.S. Department of Commerce, 1401 Constitution Avenue NW, Washington, DC 20230; telephone: (202) 482-2243.

SUPPLEMENTARY INFORMATION: On January 17, 2025, the United States and the Government of Vietnam signed an agreement regarding the WTO dispute United States—Anti-Dumping Measures on Fish Fillets from Viet Nam (DS536). On January 17, 2025, the United States, through USTR, and the Government of Vietnam notified the WTO Dispute Settlement Body that they had reached a mutually agreed solution with respect to the matters raised in this WTO dispute.

In light of the agreement, Commerce is issuing this notice revoking Vinh Hoan ¹ from the Order,² effective August 1, 2021. Therefore, merchandise produced and exported by Vinh Hoan is excluded from the Order. Accordingly, Commerce will instruct U.S. Customs and Border Protection (CBP) to liquidate unliquidated entries of certain frozen fish fillets from Vietnam produced and exported by Vinh Hoan which were entered, or withdrawn from warehouse, for consumption on or after August 1, 2021, without regard to antidumping duties.³ Commerce will also instruct CBP to discontinue the suspension of liquidation and the collection of cash deposits for estimated antidumping duties for entries of certain frozen fish fillets produced and exported by Vinh Hoan.

¹ The Vinh Hoan Corporation is a collapsed entity consisting of Vinh Hoan Corporation, Van Duc Food Export Joint Stock Company, Van Duc Tien Giang Food Export Company, Thanh Binh Dong Thap One Member Company Limited, and Vinh Phuoc Food Company Limited. See Certain Frozen Fish Fillets from the Socialist Republic of Vietnam: Final Results of Antidumping Duty Administrative Review and Final Determination of No Shipments; 2018-2019, 86 FR 36102 (July 8, 2021), and accompanying Issues and Decision Memorandum at Comment 8.

² See Notice of Antidumping Duty Order: Certain Frozen Fish Fillets from the Socialist Republic of Vietnam, 68 FR 47909 (August 12, 2003) (Order).

³ The following names will be listed in the CBP instructions: (1) Vinh Hoan Corporation, (2) Van Duc Food Export Joint Stock Company, (3) Van Duc Tien Giang Food Export Company, (4) Thanh Binh Dong Thap One Member Company Limited, and (5) Vinh Phuoc Food Company Limited.

Because there is no further basis for conducting administrative reviews of the Order with respect to merchandise produced and exported by Vinh Hoan for any period of review after August 1, 2021, Commerce does not intend to further conduct the ongoing administrative reviews under section 751(a)(1) of the Tariff Act of 1930, as amended, for the August 1, 2022, through July 1, 2023, and August 1, 2023, through July 1, 2024, periods of review with respect to Vinh Hoan as the exporter and producer.⁴

⁴ See Initiation of Antidumping and Countervailing Duty Administrative Reviews, 89 FR 77079, 77080 (Sept. 20, 2024); see also Initiation of Antidumping and Countervailing Duty Administrative Reviews, 88 FR 71829, 71830 (Oct. 18, 2023).

Dated: January 17, 2025.
Abdelali Elouaradia,
Deputy Assistant Secretary for Enforcement and Compliance.

[FR Doc. 2025-01654 Filed 1-23-25; 8:45 am]

BILLING CODE 3510-DS-P